DEPARTMENT OF AGRICULTURE

Forest Service

Notice of Resource Advisory Committee Meeting

AGENCY: Lassen Resource Advisory Committee, Susanville, California, USDA Forest Service.

ACTION: Notice of meetings.

SUMMARY: Pursuant to the authorities in the Federal Advisory Committees Act (Pub. L. 92-463) and under the Secure Rural Schools and Community Self-Determination Act of 2000 (Pub. L. 106-393) the Lassen National Forest's Lassen County Resource Advisory Committee will meet Thursday, May 12, 2005, at the Lassen National Forest Supervisor's Office, 2550 Riverside Drive, Susanville, California for a business meeting. The meeting is open to the public.

SUPPLEMENTARY INFORMATION: The business meeting on May 12th will begin at 9 a.m., at the Lassen National Forest Supervisor's Office. There will be an update on the Coordinated Resource Management Plan (CRMP), as well as HR2389 and the project-monitoring letter. Time will also be set aside for public comments at the beginning of the meeting.

FOR FURTHER INFORMATION CONTACT: Robert Andrews, District Ranger, Designated Federal Officer, at (530) 257-4188; or Public Affairs Officer Heidi Perry at (530) 252-6604.

Laurie Tippin,
Forest Supervisor.

[FR Doc. 05-8502 Filed 4-27-05; 8:45 am]

BILLING CODE 3410-11-M